DEPARTMENT OF HOMELAND SECURITY

Transportation Security Administration

Intent To Request Approval From OMB of One New Public Collection of Information: TSA Pre✓™Trusted Traveler Program; Republication

Republication

Editorial Note: FR Doc. E3-17541 was originally published at page 44140 in the issue of Tuesday, July 23, 2013. In that publication an incorrect version was published. The corrected document is republished below in its entirety. In addition, the heading is corrected to read as set forth above.

AGENCY: Transportation Security Administration, DHS.

ACTION: 60-day Notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves the submission of biographic and biometric information by individuals seeking to enroll in the TSA Pre✓™ Trusted Traveler Program.

DATES: Send your comments by September 23, 2013.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Susan L. Perkins at the above address, or by telephone (571) 227-3398.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

The Transportation Security Administration (TSA) is implementing the TSA Pre✓™ Trusted Traveler Program pursuant to its authority under section 109(a)(3) of the Aviation and Transportation Security Act (ATSA), Public Law 107-71 (115 Stat. 597, 613, Nov. 19, 2001, codified at 49 U.S.C. 114 note). That section authorizes TSA to “[e]stablish requirements to implement trusted passenger programs and use available technologies to expedite security screening of passengers who participate in such programs, thereby allowing security screening personnel to focus on those passengers who should be subject to more extensive screening.” In addition, the DHS Appropriations Act, 2006, Public Law 109-90 (119 Stat. 2064, 2088-89, Oct. 18, 2005), authorizes TSA to establish and collect a fee for any registered traveler program by publication of a notice in the Federal Register.

Under the TSA Pre✓™ Trusted Traveler Program, individuals may submit information to TSA, which in turn will use the information to conduct a security threat assessment of the individual using existing systems and processes. For those individuals who meet the standards of that assessment, TSA will issue a unique number, called a Known Traveler Number,¹ which individuals may submit to airlines when making flight reservations. Airline passengers who submit Known Traveler Numbers when making airline reservations are eligible for expedited screening on flights originating from U.S. airports with TSA Pre✓™ lanes.²

¹ The Known Traveler Number is a component of Secure Flight Passenger Data (SFPD), both of which are defined in the Secure Flight regulations at 49 CFR 1560.3. See also the Secure Flight regulations at 49 CFR part 1560.

² Passengers who are eligible for expedited screening through a dedicated TSA Pre✓™ lane typically will receive more limited physical screening, e.g., will be able to leave on their shoes, light outerwear, and belt, to keep their laptop in its case, and to keep their 3-1-1 compliant liquids/gels bag in a carry-on. TSA Pre✓™ lanes are available at 40 airports nationwide, with additional expansion planned. See “TSA Pre✓™ Now Available at 40 Airports Nationwide: Expedited Screening Begins at Raleigh-Durham International Airport,” http://www.tsa.gov/press/releases/2013/03/28/tsa-pre%E2%9C%93%E2%84%A2-now-available-40-airports-nationwide-expedited-screening-begins.

TSA seeks to establish enrollment sites and implement a mobile enrollment capability. Those seeking to become a TSA Pre✓™ Trusted Traveler Program member will have the option to apply online by submitting biographic information and paying the fee using a secure web portal (or by money order at an enrollment center) to TSA's contracted vendor. Applicants then will submit biometric data (e.g., fingerprints) in-person at an enrollment center.

Eligibility for the TSA Pre✓™ Trusted Traveler Program is within the sole discretion of TSA, which will notify applicants who are denied eligibility in writing of the reasons for the denial. If initially deemed ineligible, applicants will have an opportunity to correct cases of misidentification or inaccurate criminal or immigration records. Consistent with 28 CFR 50.12 in cases involving criminal records, and before making a final eligibility decision, TSA will advise the applicant that the FBI criminal record discloses information that would disqualify him or her from the TSA Pre✓™ Trusted Traveler Program.

Within 30 days after being advised that the criminal record received from the FBI discloses a disqualifying criminal offense, the applicant must notify TSA in writing of his or her intent to correct any information he or she believes to be inaccurate. The applicant must provide a certified revised record, or the appropriate court must forward a certified true copy of the information, prior to TSA approving eligibility of the applicant for the TSA Pre✓™ Trusted Traveler Program. With respect to immigration records, within 30 days after being advised that the immigration records indicate that the applicant is ineligible for the TSA Pre✓™ Trusted Traveler Program, the applicant must notify TSA in writing of his or her intent to correct any information believed to be inaccurate. TSA will review any information submitted and make a final decision. If neither notification nor a corrected record is received by TSA, TSA may make a final determination to deny eligibility. Individuals who TSA determines are ineligible for the TSA Pre✓™ Trusted Traveler Program will continue to be screened at airport security checkpoints in the same manner as they would have been had they not applied for the program.

The TSA Pre✓™ Trusted Traveler Program will enhance aviation security by permitting TSA to better focus its limited security resources on passengers who are more likely to pose a threat to civil aviation, while also facilitating and improving the commercial aviation travel experience for the public. Travelers who choose not to enroll in this initiative are not subject to any limitations on their travel because of their choice; they will be processed through normal TSA screening before entering the sterile areas of airports. TSA also retains the authority to perform random screening on TSA Pre✓™ Trusted Traveler Program members and any other travelers authorized for expedited physical screening.

For the initial six months of the program, TSA intends to pilot a limited number of enrollment sites and then add additional locations over time; TSA estimates approximately 88,111 respondents will participate in the pilot. Assuming full program rollout following the pilot phase, TSA estimates in the first year following the pilot there will be approximately 383,131 respondents. TSA estimates the total burden to be 27,466 hours for the pilot, and 119,430 hours in the year following the pilot.

TSA will establish a TSA Pre✓™ Trusted Traveler Program Fee of $85.00 for the TSA Pre✓™ Trusted Traveler Program. This fee will be collected to fund selected activities of the program. As described above, the DHS Appropriations Act of 2006 permits TSA to impose fees for the TSA Pre✓™ Trusted Traveler Program by notice. This notice will be published separately in the Federal Register.

Dated: June 16, 2013.
Joanna Johnson,
TSA Paperwork Reduction Act Officer, Office of Information Technology.

[FR Doc. 2013-17541 Filed 7-22-13; 8:45 a.m.]

Editorial Note: FR Doc. 2013-17541 was originally published at page 44140 in the issue of Tuesday, July 23, 2013. The corrected document is republished in its entirety.

[FR Doc. R1-2013-17541 Filed 7-25-13; 8:45 am]

BILLING CODE 1505-01-D